DEPARTMENT OF TRANSPORTATION

Federal Aviation Administration

14 CFR Part 95

[Docket No. 30299; Amdt. No. 434]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

EFFECTIVE DATE: 0901 UTC, April 18, 2002.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, D.C. on March 8, 2002.
James J. Ballough,
Director, Flight Standards Service.

Adoption of the Amendment

Accordingly, pursuant to the authority delegated to me by the Administrator, part 95 of the Federal Aviation Regulations (14 CFR part 95) is amended as follows effective at 0901 UTC, April 18, 2002.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 434 effective date: April 18, 2002]
From | To | MEA
§ 95.1001 Direct Routes—U.S.
Atlantic Routes—G437 Is Amended To Read in Part
Mapyl, OA FIX | Elbow, BS FIX | 7000
Bahamas Routes—063V Is Added To Read
Kuray, BS FIX | Nassau, BS, VOR/DME | *2000
*1500—MOCA
§ 95.6001 Victor Routes—U.S.
§ 95.6002 VOR Federal Airway 2 Is Amended To Read in Part
Alexandria, MN VOR/DME | Gopher, MN VORTAC | 3400
§ 95.6051 VOR Federal Airway 51 Is Amended To Read in Part
Alma, GA, VORTAC | Dublin, GA VORTAC | *3000
*1700—MOCA
§ 95.6066 VOR Federal Airway 66 Is Amended To Read in Part
Baret, CA, FIX | *Kumba, CA FIX | 8000
*6700—MCA Kumba, CA FIX, W BND
Kumba, CA FIX | Imperial, CA VORTAC | 4100
§ 95.6093 VOR Federal Airway 93 Is Amended To Read in Part
Vinny, PA FIX | *Roast, PA FIX | **4500
*10000—MRA
**2600—MOCA
Roast, PA FIX | Lancaster, PA VORTAC | *4500
*2600—MOCA
§ 95.6157 VOR Federal Airway 57 Is Amended To Read in Part
Alma, GA VORTAC | Lotts, GA FIX | *3000
*1700—MOCA
Lotts, GA FIX | Allendale, SC VOR | *6000
*1700—MOCA
§ 95.6161 VOR Federal Airway 161 Is Amended To Read in Part
Ardmore, OK VORTAC | Phara, OK FIX | 3000
§ 95.6184 VOR Federal Airway 184 Is Amended To Read in Part
Delro, PA FIX | **Roast, PA FIX | **10000
*10000—MRA
*3900—MOCA
Roast, PA FIX | Modena, PA VORTAC | *10000
*3900—MOCA
§ 95.6194 VOR Federal Airway 194 Is Amended To Read in Part
Hobby, TX VOR/DME | Sabine Pass, TX VOR/DME | 3000
§ 95.6198 VOR Federal Airway 198 Is Amended To Read in Part
Hobby, TX VOR/DME | Sabine Pass, TX VOR/DME | 3000
§ 95.6362 VOR Federal Airway 362 Is Amended To Read in Part
Brunswick, GA, VORTAC | Alma, GA VORTAC | *3000
*1700—MOCA
Alma, GA VORTAC | Vienna, GA VORTAC | *3000
*1900—MOCA
§ 95.6457 VOR Federal Airway 457 Is Amended To Read in Part
Lancaster, PA VORTAC | *Roast, PA FIX | **4500
*10000—MRA
**2600—MOCA
Roast, PA FIX | Vinny, PA FIX | *4500
*2600—MOCA
§ 95.6458 VOR Federal Airway 458 Is Amended To Read in Part
Julian, CA, VORTAC | *Kumba, CA FIX | 7700
*5600—MCA Kumba, CA FIX, NW BND
Kumba, CA FIX | Imperial, CA VORTAC | 4100
§ 95.6474 VOR Federal Airway 474 Is Amended To Read in Part
Delro, PA FIX | *Roast, PA FIX | **10000
*10000—MRA
**3900—MOCA
Roast, PA FIX | Modena, PA VORTAC | *10000
*3900—MOCA
§ 95.6521 VOR Federal Airway 521 Is Amended To Read in Part
Teres, FL FIX | *Cress, FL FIX | **4000
*7000—MCA CRESS FIX E BND
**1400—MOCA
§ 95.6575 VOR Federal Airway 575 Is Amended To Read in Part
Mile High, CO VORTAC | *NIWOT, CO FIX | 8000
*9500—MCA NIWOT FIX NW BND
§ 95.6578 VOR Federal Airway 578 Is Amended To Read in Part
Tift Myers, GA VOR | Alma, GA VORTAC | *3000
*1900—MOCA

From | To | MEA | MAA
§ 95.7001 Jet Routes
§ 95.7138 Jet Route No. 138 Is Amended To Read in Part
San Antonio, TX VORTAC | Hobby, TX VOR/DME | 18000 | 45000

Airway segment: From | Airway segment: To | Changeover points: Distance | Changeover points: From
§ 95.8003 VOR Federal Airway Changeover Points
V-2 Is Amended To Add Changeover Point
Gopher, MN VORTAC | Nodine, MN VORTAC | 50 | Gopher
V-97 Is Amended To Add Changeover Point
Nodine, MN VORTAC | Gopher, MN VORTAC | 60 | Nodine
§ 95.6575 VOR Federal Airway 575 Is Amended To Read in Part
Mile High, CO VORTAC | *NIWOT, CO FIX | 8000
*9500—MCA NIWOT FIX NW BND
§ 95.6578 VOR Federal Airway 578 Is Amended To Read in Part
Tift Myers, GA VOR | Alma, GA VORTAC | *3000
*1900—MOCA

From | To | MEA | MAA
§ 95.7001 Jet Routes
§ 95.7138 JET ROUTE NO. 138 Is Amended To Read in Part
San Antonio, TX VORTAC | Hobby, TX VOR/DME | 18000 | 45000

Airway segment: From | Airway segment: To | Changeover points: Distance | Changeover points: From
§ 95.8003 VOR Federal Airway Changeover Points
V-2 Is Amended To Add Changeover Point
Gopher, MN VORTAC | Nodine, MN VORTAC | 50 | Gopher
V-97 Is Amended To Add Changeover Point
Nodine, MN VORTAC | Gopher, MN VORTAC | 60 | Nodine

[FR Doc. 02-6126 Filed 3-13-02; 8:45 am]

BILLING CODE 4910-13-M